ENVIRONMENTAL PROTECTION AGENCY

[FRL-9065-01-OW]

Notice of Virtual Public Meeting of the Environmental Financial Advisory Board via Webcast

AGENCY: Environmental Protection Agency (EPA).

ACTION: Notice of virtual public meeting.

SUMMARY: The United States Environmental Protection Agency (EPA) announces a virtual public meeting via webcast of the Environmental Financial Advisory Board (EFAB). The meeting will be shared in real-time via webcast and public comments may be provided in writing in advance or virtually via webcast. Please see SUPPLEMENTARY INFORMATION for further details. The purpose of the meeting will be for the EFAB to provide workgroup updates and work products for previously accepted and potential charges, receive updates on EPA activities relating to administration priorities and environmental finance, and consider possible future advisory topics.

DATES: The virtual public meeting will be held on October 13, 2021 from 12 p.m. to 4 p.m. Eastern Time.

ADDRESSES: Information to access the webcast will be provided upon registration in advance of the meeting.

FOR FURTHER INFORMATION CONTACT: Any member of the public who wants information about the meeting may contact Ed Chu, the EFAB Designated Federal Officer, via telephone/voicemail at (913) 551-7333 or email to efab@epa.gov. General information concerning the EFAB is available at https://www.epa.gov/waterfinancecenter/efab.

SUPPLEMENTARY INFORMATION: Background: The EFAB is an EPA advisory committee chartered under the Federal Advisory Committee Act (FACA), 5 U.S.C. App. 2, to provide advice and recommendations to EPA on innovative approaches to funding environmental programs, projects, and activities. Administrative support for the EFAB is provided by the Water Infrastructure and Resiliency Finance Center within EPA's Office of Water. Pursuant to FACA and EPA policy, notice is hereby given that the EFAB will hold a virtual public meeting via webcast for the following purposes:

(1) Provide EFAB workgroup updates to the Board regarding work products related to the Opportunity Zones charge the Board accepted during its October 2020 meeting;

(2) Discuss potential future EFAB charges including Stormwater Credit Trading, Environmental Risk and Cost of Capital, Financing Small Manufacturer Pollution Prevention Projects, and others; and

(3) Receive briefings from invited EPA speakers on environmental finance topics.

Registration for the Meeting: To register for the meeting, please visit https://www.epa.gov/waterfinancecenter/efab#meeting. Interested persons who wish to attend the meeting via webcast must register by October 5, 2021. Pre-registration is strongly encouraged.

Availability of Meeting Materials: Meeting materials, including the meeting agenda and briefing materials, will be available on EPA's website at https://www.epa.gov/waterfinancecenter/efab.

Procedures for Providing Public Input: Public comment for consideration by EPA's federal advisory committees has a different purpose from public comment provided to EPA program offices. Therefore, the process for submitting comments to a federal advisory committee is different from the process used to submit comments to an EPA program office. Federal advisory committees provide independent advice to EPA. Members of the public may submit comments on matters being considered by the EFAB for consideration as the Board develops its advice and recommendations to EPA.

Oral Statements: In general, individuals or groups requesting an oral presentation at a virtual public meeting will be limited to three minutes each. Persons interested in providing oral statements at the October 2021 meeting virtually via webcast should register in advance and provide notification, as noted in the registration confirmation, by October 5, 2021 to be placed on the list of registered speakers.

Written Statements: Written statements for the October 2021 meeting should be received by October 5, 2021 so that the information can be made available to the EFAB for its consideration prior to the meeting. Written statements should be sent via email to efab@epa.gov. Members of the public should be aware that their personal contact information, if included in any written comments, may be posted to the EFAB website. Copyrighted material will not be posted without explicit permission of the copyright holder.

Accessibility: For information on access or services for individuals with disabilities or to request accommodations for a disability, please register for the meeting and list any special requirements or accommodations needed on the registration form at least 10 business days prior to the meeting to allow as much time as possible to process your request.

Dated: September 22, 2021.
Andrew D. Sawyers,
Director, Office of Wastewater Management, Office of Water.

[FR Doc. 2021-20994 Filed 9-27-21; 8:45 am]

BILLING CODE 6560-50-P